DEPARTMENT OF COMMERCE

National Oceanic and Atmospheric Administration

[I.D. 011204B]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will held from February 2 through February 10, 2004. See SUPPLEMENTARY INFORMATION for specific dates and times.

ADDRESSES: The meetings will be held at the Anchorage Hilton Hotel, 500 W 3rd Avenue, Anchorage, AK.

Council address: North Pacific Fishery Management Council, 605 W. 4th Ave., Suite 306, Anchorage, AK 99501-2252.

FOR FURTHER INFORMATION CONTACT: Council staff, Phone: 907-271-2809.

SUPPLEMENTARY INFORMATION: The Council's Advisory Panel will begin at 8 a.m., Monday, February 2, and continue through Saturday, February 7, 2004. The Scientific and Statistical Committee will begin at 8 a.m. on Monday, February 2, and continue through Wednesday, February 4, 2004.

The Council will begin its plenary session at 8 a.m. on Wednesday, February 4 continuing through Tuesday February 10. All meetings are open to the public except executive sessions. The Enforcement Committee will meet Tuesday, February 3, at 4:30 pm in the Aleutian Room.

Council Plenary Session: The agenda for the Council's plenary session will include the following issues. The Council may take appropriate action on any of the issues identified.

1. Reports

(a) Executive Director's Report

(b) NMFS Report

(c) United States Coast Guard Report

(d) Alaska Department Fish & Game Reports

(e) United States Fish & Wildlife Report

(f) International Pacific Halibut Commission Report

2. Gulf of Alaska Rationalization (GOA): (a) Receive Board of Fisheries Workgroup Report; (b) Review and refine alternatives and options; (c) Review GOA salmon/crab bycatch discussion paper.

3. Observer Program: (a) Program overview (Alaska Fishery Science Center); (b) Receive progress report on Program Restructuring Analysis.

4. Improved Retention/Improved Utilization (IR/IU): (a) Receive update on Amendment 79; (b) Review Progress report on Amendments 80a and 80b.

5. Habitat Areas of Particular Concern (HAPC): Receive report on proposals received.

6. Crab Environmental Impact Statement (EIS): Initial review and release for public comment.

7. Congressional legislative (T): Discuss and provide direction on Aleutian Island pollock and GOA rockfish.

8. American Fisheries Act: Review 2003 co-op reports and 2004 co-op agreements.

9. Draft Programmatic Supplemental Impact Statement (DPSEIS): (a) Report on comments received on draft; (b) Report on Endangered Species Act Consultation; (c) Review Groundfish Fishery Management Plan.

10. Steller Sea Lion (SSL) mitigation adjustments in GOA: Review NMFS informal consultation.

11. Groundfish Management: (a) Review National Bycatch Strategy and Alaska Region Report; (b) Review Crab/Groundfish overfishing definitions and multispecies models (SSC); (c) Review Exempted Fishing Permits (EFP) request for rockfish fishery.

12. Scallop Management: (a) Review Stock Assessment Fishery Evaluation; (b) Discuss Fishery Management Plan update.

13. Staff Tasking: Review tasking and provide direction to staff.

14. Other Business.

Scientific and Statistical Committee (SSC): The SSC agenda will include the following issues:

1. C-1 Observer Program

2. C-4 HAPC

3. C-5 Crab EIS

4. C-8 DPSEIS

5. C-9 SSL Mitigations

6. D-1 Groundfish Management

7. D-2 Scallop Management

Advisory Panel: The Advisory Panel will address the same agenda issues as the Council.

Enforcement Committee: The Enforcement Committee will meet during each meeting of the Council to discuss enforcement issues or concerns related to any subject on the Council agenda.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at 907-271-2809 at least 7 working days prior to the meeting date.

Dated: January 12, 2004.
Peter H. Fricke,
Acting Director, Office of Sustainable Fisheries, National Marine Fisheries Service.

[FR Doc. 04-1011 Filed 1-15-04; 8:45 am]

BILLING CODE 3510-22-S